DEPARTMENT OF HEALTH AND HUMAN SERVICES

Centers for Disease Control and Prevention

42 CFR Part 84

[Docket Number NIOSH-0137]

RIN 0920-AA33

Total Inward Leakage Requirements for Respirators

AGENCY: The National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC), will hold a second public meeting concerning the proposed rule for Total Inward Leakage Requirements for Respirators that was published in the Federal Register on Friday, October 30, 2009 (74 FR 56141). The purpose of the meeting is to allow participants to make presentations to NIOSH, share results of any new research that may be available or in process in the area of filtering facepiece or other half-mask respirator inward leakage measurement, and offer any additional comments on the anticipated economic impact of the proposed rule.

Public Meeting Time and Date: 8:30 a.m.-4 p.m. EDT, or after the last public commenter has spoken, whichever is earlier, July 29, 2010.

Place: The Marriot Inn and Conference Center UMUC, 3501 University Boulevard E., Hyattsville, MD 20783.

FOR FURTHER INFORMATION CONTACT: Jonathan V. Szalajda, NIOSH, National Personal Protective Technology Laboratory (NPPTL), Post Office Box 18070, 626 Cochrans Mill Road, Pittsburgh, Pennsylvania 15236, telephone (412) 386-5200, facsimile (412) 386-4089, e-mail zfx1@cdc.gov.

SUPPLEMENTARY INFORMATION:

I. Background

The Department of Health and Human Services published a proposed rule on the Total Inward Leakage Requirements for Respirators on Friday, October 30, 2009 (74 FR 56141).

NIOSH held a public meeting on the proposed rule on December 3, 2009, at which time commenters asked for an extension of the comment period in order to evaluate the feasibility and cost associated with the proposed rule. NIOSH subsequently published an extension of the comment period to March 30, 2010 in the Federal Register on December 17, 2009 (74 FR 66935).

During the comment period, several commenters requested a further extension of the comment period in order to conduct tests and prepare responses. On April 20, 2010, NIOSH responded by reopening the docket for comments until September 30, 2010 (75 FR 20546).

II. Public Meeting

NIOSH will hold a second public meeting on the proposed rule, on the date and time listed above to allow commenters to present their findings and ongoing activities.

Requests to make presentations at the public meeting should be mailed to the NIOSH Docket Office, Robert A. Taft Laboratories, MS-C34, 4676 Columbia Parkway, Cincinnati, OH 45226. Requests may also be submitted by telephone (513) 533-8611, facsimile (513) 533-8285, or e-mailed to niocindocket@cdc.gov. All requests to present should contain the name, address, telephone number and relevant business affiliations of the presenter, and the approximate time requested for the presentation. Oral presentations should be limited to 15 minutes.

After reviewing the requests for presentations, NIOSH will notify the presenter that his/her presentation is scheduled. If a participant is not in attendance when his/her presentation is scheduled to begin, the remaining participants will be heard in order. After the last scheduled speaker is heard, participants who missed their assigned times may be allowed to speak, limited by time available. Attendees who wish to speak but did not submit a request for the opportunity to make a presentation may be given this opportunity after the scheduled speakers are heard, at the discretion of the presiding officer and limited by time available.

This meeting will also be using Audio/LiveMeeting Conferencing, remote access capabilities where interested parties may listen in and review the presentations over the Internet simultaneously. Parties remotely accessing the meeting will have the opportunity to comment during the open comment period. To register to use this capability, please contact the National Personal Protective Technology Laboratory (NPPTL), Policy and Standards Development Branch, Post Office Box 18070, 626 Cochrans Mill Road, Pittsburgh, PA 15236, telephone (412) 386-5200, facsimile (412) 386-4089. This option will be available to participants on a first come, first served basis and is limited to the first 50 participants.

Dated: May 20, 2010.
Tanja Popovic,
Deputy Associate Director for Science, Centers for Disease Control and Prevention.

[FR Doc. 2010-12744 Filed 5-26-10; 8:45 am]

BILLING CODE 4163-19-P